DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 17, 2003.

Interested persons are invited to submit written comments regarding the subject matter of the investigations to the Director, Division of Trade Adjustment Assistance, at the address shown below, not later than November 17, 2003.

The petitions filed in this case are available for inspection at the Office of the Director, Division of Trade Adjustment Assistance, Employment and Training Administration, U.S. Department of Labor, Room C-5311, 200 Constitution Avenue, NW., Washington, DC 20210.

Signed at Washington, DC this 20th day of October 2003.
Timothy Sullivan,
Director, Division of Trade Adjustment Assistance.

Appendix
[Petitions Instituted Between 09/29/2003 and 10/03/2003]
TA-W | Subject firm (petitioners) | Location | Date of institution | Date of petition
53,037A | Fishing Vessel (F/V) Miss Julie (Comp) | Palmer, AK | 09/29/2003 | 08/25/2003
53,037 | Fishing Vessel (F/V) Big Dog (Comp) | Palmer, AK | 09/29/2003 | 08/25/2003
53,038 | Coats and Clark, Inc. (Comp) | Toccoa, GA | 09/29/2003 | 09/26/2003
53,039 | Planar Systems, Inc. (Comp) | Beaverton, OR | 09/29/2003 | 09/23/2003
53,040 | Bowling Green Spinning Co. (Comp) | Bowling Green, SC | 09/29/2003 | 09/19/2003
53,041 | Tecumseh Products (Wkrs) | Paris, TN | 09/29/2003 | 09/22/2003
53,042 | Solon Manufacturing Co. (Comp) | Rhinelander, WI | 09/29/2003 | 09/24/2003
53,043 | Honeywell Airframe Systems (Comp) | Torrance, CA | 09/29/2003 | 09/26/2003
53,044 | Intermet Foundry (USWA) | Lynchburg, VA | 09/29/2003 | 09/17/2003
53,045 | PA Machine Works, Inc. (Comp) | Aston, PA | 09/29/2003 | 09/10/2003
53,046 | Quality Home Fashions (Comp) | Richfield, NC | 09/29/2003 | 09/19/2003
53,047 | Martinawtomatic (Wkrs) | Rockford, IL | 09/29/2003 | 09/05/2003
53,048 | General Shoelace Co. (Wkrs) | Lincolnton, NC | 09/29/2003 | 09/22/2003
53,049 | Visteon Systems, LLC (Wkrs) | Lansdale, PA | 09/30/2003 | 09/29/2003
53,050 | Sappi Fine Paper (Comp) | Allentown, PA | 09/30/2003 | 09/29/2003
53,051 | JacksonLea (Comp) | Santa Fe Spgs., CA | 09/30/2003 | 09/26/2003
53,052 | Rohm and Haas Company (Wkrs) | Philadelphia, PA | 09/30/2003 | 09/03/2003
53,053 | F. Ziegler Enterprises, Ltd. (Wkrs) | Fond du Lac, WI | 09/30/2003 | 09/25/2003
53,054 | Doe Run Company (The) (Comp) | Annapolis, MO | 09/30/2003 | 09/23/2003
53,055 | Leonard Electric Products Co. (Comp) | Brownsville, TX | 09/30/2003 | 09/17/2003
53,056 | Toshiba America Information Systems, Inc. (Comp) | Irvine, CA | 09/30/2003 | 09/26/2003
53,057 | Lucent Technologies (Wkrs) | Phoneniz, AZ | 09/30/2003 | 09/26/2003
53,058 | Seagate Technology, Inc. (Wkrs) | Oklahoma City, OK | 09/30/2003 | 09/26/2003
53,059 | Rockwell Automation (Comp) | Gallipolis, OH | 09/30/2003 | 09/26/2003
53,060 | G. Leblanc Corporation (Comp) | Elkhorn, WI | 09/30/2003 | 09/23/2003
53,061 | Consul Risk Management (Wkrs) | Acton, MA | 09/30/2003 | 09/28/2003
53,062 | Wallner Tool, Inc. (MN) | Maple Grove, MN | 09/30/2003 | 09/29/2003
53,063 | J.L. Williams Co. (Wkrs) | Nampa, ID | 09/30/2003 | 09/29/2003
53,064 | ATMI Ecosys (CA) | Napa, CA | 09/30/2003 | 09/39/2003
53,065 | Red Devil, Inc. (Comp) | Union, NJ | 09/30/2003 | 09/30/2003
53,066 | Fishing Vessel (F/V) Deborah Renee (Comp) | Clarkston, WA | 10/01/2003 | 09/30/2003
53,067 | Chalup Setnet Operation (Comp) | Homer, AK | 10/01/2003 | 09/20/2003
53,068 | Fishing Vessel (F/V) Aquarius (Comp) | Kodiak, AK | 10/01/2003 | 09/29/2003
53,069 | Fishing Vessel (F/V) Family Pride (Comp) | Kodiak, AK | 10/01/2003 | 09/30/2003
53,070 | Home Products International (Comp) | Eagan, MN | 10/01/2003 | 09/30/2003
53,071 | A and E Products Groups, LP (Wkrs) | Ringtown, PA | 10/01/2003 | 09/15/2003
53,072 | Congress Industries (USWA) | Hawthorne, NJ | 10/01/2003 | 09/04/2003
53,073 | OK-1 Manufacturing, Inc. (Comp) | Altus, OK | 10/01/2003 | 09/26/2003
53,074 | Finisar Corporation (Wkrs) | Hayward, CA | 10/01/2003 | 09/23/2003
53,075 | Tescom Crp. (Wkrs) | Elk River, MN | 10/01/2003 | 09/25/2003
53,076 | Griffin Manufacturing, Inc. (MA) | Fall River, MA | 10/01/2003 | 09/26/2003
53,077 | DuPont Teijin Films (Comp) | Florence, SC | 10/01/2003 | 09/30/2003
53,078 | Yahoo, Inc. (Wkrs) | Sunnyvale, CA | 10/01/2003 | 09/25/2003
53,079 | Electronic Data Systems (Wkrs) | Troy, MI | 10/01/2003 | 09/30/2003
53,080 | Arland Tool and Mfg., Inc. (Comp) | Sturbridge, MA | 10/01/2003 | 09/25/2003
53,081 | Robert Manufacturing (Comp) | Ranch Cucamonga, CA | 10/01/2003 | 09/08/2003
53,082 | Dekko Heating Technologies, Inc. (Comp) | Afton, IA | 10/01/2003 | 09/25/2003
53,083 | Evy of California, Inc. (CA) | Los Angeles, CA | 10/01/2003 | 09/22/2003
53,084 | Eaton/Cutler Hammer (Wkrs) | Watertown, WI | 10/01/2003 | 09/23/2003
53,085 | Joe Greene Design and Co., LLC (Comp) | Hickory, NC | 10/01/2003 | 09/22/2003
53,086 | Harlyn Textile Mills, Inc. (Comp) | New York, NY | 10/01/2003 | 09/19/2003
53,087 | Manchester Tool Company (USWA) | Akron, OH | 10/01/2003 | 09/18/2003
53,088 | L.B. Smith (Comp) | Camp Hill, PA | 10/01/2003 | 09/22/2003
53,089 | East Coast Hydraulics (IAM) | Camp Hill, PA | 10/01/2003 | 09/22/2003
53,090 | MBU, Inc. (NY) | New York, NY | 10/01/2003 | 09/19/2003
53,091 | Standard Textile Co., Inc. (Comp) | Enterprise, AL | 10/01/2003 | 09/23/2003
53,092 | Jan Sew Manufacturing (Comp) | Crossville, TN | 10/01/2003 | 09/15/2003
53,093 | William Carter Company (Wkrs) | Griffin, GA | 10/01/2003 | 09/17/2003
53,094 | Eastman Machine Company (UAW) | Buffalo, NY | 10/01/2003 | 09/19/2003
53,095 | Collins and Aikman (GMP) | St. Joseph, MI | 10/01/2003 | 09/20/2003
53,096 | H. Warshow and Sons, Inc. (Wkrs) | Milton, PA | 10/01/2003 | 09/17/2003
53,097 | Phycomp/Yageo America (Wkrs) | El Paso, TX | 10/01/2003 | 09/18/2003
53,098 | Alcoa Composition Foils (Wkrs) | Pevely, MO | 10/01/2003 | 09/20/2003
53,099 | Border Apparel (Wkrs) | El Paso, TX | 10/01/2003 | 09/29/2003
53,100 | Computer Sciences Corporation (Wkrs) | Bethlehem, PA | 10/01/2003 | 09/24/2003
53,101 | Heil Company (USWA) | Lancaster, PA | 10/01/2003 | 09/16/2003
53,102 | Carbone Kirkwood LLC (Comp) | Cleveland, OH | 10/02/2003 | 09/30/2003
53,103 | Microdyne (Wkrs) | Torrance, CA | 10/02/2003 | 09/23/2003
53,104 | Webb Wheel Products (Comp) | Cullman, AL | 10/02/2003 | 09/25/2003
53,105 | American and Efird, Inc. (Comp) | Maiden, NC | 10/02/2003 | 10/01/2003
53,106 | Tree Source Industries, Inc. (Wkrs) | Portland, OR | 10/02/2003 | 09/30/2003
53,107 | Rapid Mold Solutions, Inc. (Wkrs) | Erie, PA | 10/02/2003 | 09/10/2003
53,108 | Hon Company (The) (Wkrs) | South Gate, CA | 10/02/2003 | 09/22/2003
53,109 | Hickory Throwing Co. (Comp) | Hickory, NC | 10/02/2003 | 09/29/2003
53,110 | Zorlu Manufacturing Co., LLC (Wkrs) | Warrenton, GA | 10/02/2003 | 09/24/2003
53,111 | Liberty Cut and Sew (Comp) | Stuart, VA | 10/02/2003 | 09/24/2003
53,112 | Stora Enso North America (Comp) | Wisconsin Rapid, WI | 10/02/2003 | 09/26/2003
53,113 | Davis Lumber Co. (Wkrs) | Rush, KY | 10/02/2003 | 09/30/2003
53,114 | Process Chemicals, LLC (Wkrs) | Greer, SC | 10/02/2003 | 09/30/2003
53,115 | Perfect Circle Division, DANA Corp. (UAW) | Muskegon, MI | 10/02/2003 | 09/29/2003
53,116 | Cogent Power (Comp) | Bridgeport, CT | 10/02/2003 | 10/02/2003
53,117 | Quality Investsment Castings, Inc. (Comp) | Fleetwood, PA | 10/02/2003 | 09/23/2003
53,118 | SPX Contech Metal Forging (UAW) | Dowagiac, MI | 10/02/2003 | 09/29/2003
53,119 | Orrco, Inc. (Comp) | Killbuck, OH | 10/02/2003 | 10/01/2003
53,120 | DVDA Inc. and D'Angelis Designs, Inc. (Comp) | New York, NY | 10/02/2003 | 09/28/2003
53,121 | Photronics, Inc. (Comp) | Milpitas, CA | 10/03/2003 | 09/10/2003
53,122 | North Pacific Processors, Inc. (Comp) | Cordova, AK | 10/03/2003 | 09/03/2003
53,123 | Reed-Rico PCC Industrial Products (Comp) | Holden, MA | 10/03/2003 | 09/10/2003
53,124 | American Bag Corp. (Comp) | Winfield, TN | 10/03/2003 | 09/17/2003
53,125 | Ranco North America (Comp) | Brownsville, TX | 10/02/2003 | 09/23/2003
53,126 | Siemens Energy and Automation (Comp) | Lebanon, OH | 10/03/2003 | 09/23/2003
53,127 | Ault, Inc. (Comp) | Minneapolis, MN | 10/03/2003 | 10/02/2003
53,128 | Wilson Sporting Goods (Comp) | Springfield, TN | 10/03/2003 | 10/01/2003
53,129 | Bayer (PACE) | W. Haven, CT | 10/03/2003 | 10/01/2003
53,130 | Oregon Woodworking (Comp) | Bend, OR | 10/03/2003 | 10/01/2003
53,131 | Thermotek, Inc. (Wrks) | Carrollton, TX | 10/03/2003 | 09/27/2003
53,132 | Authentic Fitness Corp. (CA) | Bell, CA | 10/03/2003 | 10/01/2003
53,133 | Charlotte Trimming Co. (Comp) | Charlotte, NC | 10/03/2003 | 10/01/2003
53,134 | Dan River, Inc. (Wkrs) | Ft. Valley, CA | 10/03/2003 | 10/03/2003
53,135 | Castle Rubber LLC (Comp) | E. Butler, PA | 10/03/2003 | 10/03/2003
53,136 | Edgerton Forge, Inc. (IBB) | Edgerton, OH | 10/03/2003 | 10/02/2003
53,137 | Weave Corp. (Wkrs) | Denver, PA | 10/03/2003 | 09/10/2003
53,138 | Amhil Enterprises, Inc. (Wkrs) | Dickson, TN | 10/03/2003 | 09/30/2003
53,139 | Totally Traditional, Inc. (Wrks) | Monroe, LA | 10/03/2003 | 10/02/2003
53,140 | Gammerler US Corp. (Comp) | Hanover Park, IL | 10/03/2003 | 09/29/2003
53,141 | Atlas Model Railroad (NJ) | Hillside, NJ | 10/03/2003 | 10/02/2003
53,142 | Century Furniture Ind. (Comp) | Hickory, NC | 10/03/2003 | 09/30/2003
53,143 | ERNI Components, Inc. (Comp) | Chester, VA | 10/03/2003 | 09/30/2003
53,144 | Thomas Moser Cabinetmakers (Comp) | Auburn, ME | 10/03/2003 | 09/23/2003
53,145 | General Aluminum Manufacturing Co. (UAW) | Hudson, MI | 10/03/2003 | 09/26/2003
53,146 | MetalForming Technologies, Inc. (UAW) | Pinconning, MI | 10/03/2003 | 09/26/2003
53,147 | EaglePicher (UAW) | Hillsdale, MI | 10/03/2003 | 09/26/2003

Appendix
[Petitions Instituted Between 10/06/2003 and 10/10/2003]
TA-W | Subject firm (petitioners) | Location | Date of institution | Date of petition
53,148 | Avanex (Wkrs.) | Fremont, CA | 10/06/2003 | 09/24/2003
53,149 | Arch Chemicals, Inc. (Wkrs.) | Lake Charles, LA | 10/06/2003 | 10/03/2003
53,150 | Rayovac Corp (Wkrs) | Fennimore, WI | 10/06/2003 | 10/02/2003
53,151 | Cole Hersee Company (Comp.) | Boston, MA | 10/06/2003 | 10/03/2003
53,152 | FMC Measurement Solutions (union) | Erie, PA | 10/06/2003 | 09/19/2003
53,153 | Metal Process Asst. (Comp.) | Northwich, CT | 10/06/2003 | 10/01/2003
53,154 | International Stone Products (Comp.) | Barre, VT | 10/06/2003 | 10/03/2003
53,155 | Brazeway, Inc. (IA) | DeWitt, IA | 10/06/2003 | 10/06/2003
53,156 | Halmade Apparel, Inc. (Comp.) | Roanoke, VA | 10/06/2003 | 09/30/2003
53,157 | F/V TRI-K (Comp.) | Palmer, AK | 10/06/2003 | 10/02/2003
53,158 | Zawick Manufacturing (UNITE) | Hellertown, PA | 10/07/2003 | 10/06/2003
53,159 | General Mills (Wkrs) | Eden Prairie, MN | 10/07/2003 | 09/16/2003
53,160 | Biddle Precision (Wkrs) | Sheridan, IN | 10/07/2003 | 09/10/2003
53,161 | ATC Distribution (PA) | McKees Rock, PA | 10/07/2003 | 10/07/2003
53,162 | Spherion Corp. (TX) | Victoria, TX | 10/07/2003 | 10/03/2003
53,163 | Zapata Industries, Inc. (IUOE) | Muskogee OK | 10/07/2003 | 10/03/2003
53,164 | Agilent Technologies (Wkrs) | Loveland, CO | 10/07/2003 | 09/26/2003
53,165 | Thermal Ceramics RPG (UNITE) | Elgin, IL | 10/07/2003 | 10/01/2003
53,166 | ArvinMeritor, Inc. (Comp) | Chickasha, OK | 10/07/2003 | 10/01/2003
53,167 | Wirco Castings, Inc. (Comp) | New Athens, IL | 10/08/2003 | 10/07/2003
53,168 | Allegheny Foundry Co. (Wkrs) | Pittsburgh, PA | 10/08/2003 | 09/30/2003
53,169 | Dresser, Inc. (Comp) | Bradford, PA | 10/08/2003 | 09/25/2003
53,170 | Tex Tech Industries (Wkrs) | N. Monmouth, ME | 10/08/2003 | 09/26/2003
53,171 | IPMC Acquisitions LLC (PACE) | Detroit, MI | 10/08/2003 | 09/30/2003
53,172 | Meadwestvaco (CT) | Enfield, CT | 10/08/2003 | 10/06/2003
53,173 | E.I. Du Pont de Nemours and Co., Inc. (Comp) | Athens, GA | 10/08/2003 | 09/24/2003
53,174 | Sinclair Collins/Parker Hannifin (USWA) | Akron, OH | 10/08/2003 | 10/01/2003
53,175 | Ciber IT Solutions (Comp) | Fairport, NY | 10/08/2003 | 09/29/2003
53,176 | TCI Machinery, Inc. (Comp) | Gastonia, NC | 10/08/2003 | 09/30/2003
53,177 | Agilent Technologies (Wkrs) | Loveland, CO | 10/08/2003 | 09/29/2003
53,178 | Solectron Global Services (Wkrs) | Beaverton, OR | 10/08/2003 | 10/02/2003
53,179 | Kulicke and Soffa Industries, Inc. (Comp) | Willow Grove, PA | 10/08/2003 | 10/03/2003
53,180 | 3M Company (Comp) | Columbia, MO | 10/08/2003 | 09/26/2003
53,181 | Nutec Bickley (BIK Corp.) (Wkrs) | Bensalem, PA | 10/08/2003 | 10/06/2003
53,182 | RMH Teleservices (Wkrs) | Wilkes Barre, PA | 10/08/2003 | 10/06/2003
53,183 | Group Seven Systems, Inc. (Comp) | Lenoir, NC | 10/08/2003 | 10/03/2003
53,184 | Wolverine Tube, Inc. (Comp) | Booneville, MS | 10/08/2003 | 10/07/2003
53,185 | Lawson Software (MN) | St. Paul, MN | 10/08/2003 | 10/06/2003
53,186 | Arlon (Comp) | E. Providence, RI | 10/08/2003 | 09/29/2003
53,187 | Harriet and Henderson Yarns, Inc. (Comp) | Henderson, NC | 10/08/2003 | 10/04/2003
53,188 | Caliendo Savio Enterprise, Inc., (Comp) | New Berlin, WI | 10/08/2003 | 10/07/2003
53,189 | Campbell Foundry (NJ) | Harrison, NJ | 10/08/2003 | 10/07/2003
53,190 | Carriage House Co., Inc., (Wkrs) | Streator, IL | 10/08/2003 | 09/26/2003
53,191 | Snap-tite, Inc., (Comp) | Erie, PA | 10/08/2003 | 09/10/2003
53,192 | Telect, Inc. (Comp) | Sugar Hill, GA | 10/08/2003 | 09/09/2003
53,193 | F/V Eldorado (Comp) | Mt. Vernon, WA | 10/08/2003 | 10/02/2003
53,194 | Penn Union Corporation (Wkrs) | Edinboro, PA | 10/09/2003 | 10/07/2003
53,195 | Solectron (Comp) | Creedmoor, NC | 10/09/2003 | 09/25/2003
53,196 | Texas Instruments (Comp) | Attleboro, MA | 10/09/2003 | 10/06/2003
53,197 | Annjon Dress (Comp) | New York, NY | 10/09/2003 | 10/08/2003
53,198 | Celanese Acetate (Wkrs) | Narrows, VA | 10/09/2003 | 10/03/2003
53,199 | Eudora Garment Corp. (AR) | Eudora, AR | 10/09/2003 | 10/03/2003
53,200 | Louisiana Pacific (Comp) | Belgrade, MT | 10/09/2003 | 10/08/2003
53,201 | Louisiana Pacific Corp. (Wkrs) | Sandpoint, ID | 10/09/2003 | 10/08/2003
53,202 | Arctic Cat (MN) | Thief River Fal, MN | 10/09/2003 | 10/08/2003
53,203 | Vibren Technologies (MA) | Boxborough, MA | 10/09/2003 | 09/04/2003
53,204 | CDI Corp. (Wkrs) | Corvallis, OR | 10/09/2003 | 09/26/2003
53,205 | Lear Corp. (Wkrs) | Lewistown, PA | 10/09/2003 | 10/08/2003
53,206 | GE Industrial Systems (Comp) | Shreveport, LA | 10/10/2003 | 10/09/2003
53,207 | Extrasport (Wkrs) | Miami, FL | 10/10/2003 | 10/03/2003
53,208 | Randolph Knitting, Inc. (Comp) | Ramseur, NC | 10/10/2003 | 10/06/2003
53,209 | Computer Sciences Corp. (Wkrs) | E. Hartford, CT | 10/10/2003 | 09/22/2003
53,210 | Connector Service Corp. (Comp) | Dallas, TX | 10/10/2003 | 10/09/2003
53,211 | Rogers Corporation (Comp) | S. Windham, CT | 10/10/2003 | 10/06/2003
53,212 | Heraeus Quartztech, Inc. (Comp) | Austin, TX | 10/10/2003 | 10/08/2003
53,213 | Viking Engineered Cast Products (Wkrs) | Cedar Falls, IA | 10/10/2003 | 10/02/2003
53,214 | Rhodia Chemicals (Wrks) | Chicago Heights, IL | 10/10/2003 | 09/22/2003
53,215 | Kingsport Foundry and Mfg. Corp. (Comp) | Kingsport, TN | 10/10/2003 | 09/29/2003
53,216 | Henry I. Siegel Co., Inc. (Comp) | Nashville, TN | 10/10/2003 | 10/07/2003
53,217 | Rexnord (Wkrs) | New Berlin, WI | 10/10/2003 | 10/10/2003

[FR Doc. 03-27832 Filed 11-4-03; 8:45 am]

BILLING CODE 4510-30-M